FEDERAL COMMUNICATIONS COMMISSION

Performance Review Board

As required by the Civil Service Reform Act of 1978 (Pub. L. 95-454), Chairman Kevin J. Martin appointed the following executives to the Performance Review Board (PRB): Michelle Carey, Thomas Navin, and Monica Desai.

Federal Communications Commission.
Marlene H. Dortch,
Secretary.

[FR Doc. 05-20999 Filed 10-25-05; 8:45 am]

BILLING CODE 6712-01-P